DEPARTMENT OF THE INTERIOR

Fish and Wildlife Service

[FWS-R4-R-2013-N235; FXRS12650400000S3-123-FF04R02000]

Cat Island National Wildlife Refuge; West Feliciana Parish, Louisiana; Notice of Intent To Prepare a Comprehensive Conservation Plan and Environmental Assessment; Correction

AGENCY: Fish and Wildlife Service, Interior.

ACTION: Notice of intent; request for comments; correction.

SUMMARY: On October 22, 2013, we, the U.S. Fish and Wildlife Service (Service), published a notice of intent to prepare a comprehensive conservation plan (CCP) and associated National Environmental Policy Act (NEPA) documents for Cat Island National Wildlife Refuge (NWR). We provided this notice in compliance with our CCP policy to advise other Federal and State agencies, Native American Tribes, and the public of our intentions, and to obtain suggestions and information on the scope of issues to consider in the planning process. However, we made an error in the end date we gave for public comments. This notice corrects that date error.

DATES: To ensure consideration, we must receive your written comments by December 21, 2013.

ADDRESSES: You may send comments, questions, and requests for information to: Robert Strader, Project Leader, USFWS, Lower Mississippi River Refuge Complex, P.O. Box 217, Sibley, MS, 39165.

FOR FURTHER INFORMATION CONTACT: Michelle Paduani, Project Planner, by telephone at 662-323-5548, or by email at michelle_paduani@fws.gov, or Robert Strader, Project Leader, by telephone at 601-442-6696, or by email at bob_strader@fws.gov.

SUPPLEMENTARY INFORMATION: Pursuant to the National Wildlife Refuge System Improvement Act of 1997 (16 U.S.C. 668dd et seq.), Service comprehensive conservation plan policy, and NEPA regulations (40 CFR 1506.6), we initiated our intent to prepare a comprehensive conservation plan (CCP) and NEPA documents for Cat Island National Wildlife Refuge NWR, West Feliciana Parish, Louisiana, in a October 22, 2013, Federal Register notice (78 FR 62648). That notice complied with our CCP policy to: (1) Advise other Federal and State agencies, Native American Tribes, and the public of our intentions and to obtain suggestions and information on the scope of issues to consider in the planning process. The original notice had an incorrect end date for the comment period. Please see the DATES section for our corrected comment-period end date.

For background information and public comments information, see our earlier notice.

Authority

This notice is published under the authority of the National Wildlife Refuge System Improvement Act of 1997 (16 U.S.C. 668dd et seq.).

Mike Oetker,
Acting Regional Director.

[FR Doc. 2013-28187 Filed 11-22-13; 8:45 am]

BILLING CODE 4310-55-P